DEPARTMENT OF TRANSPORTATION

Federal Aviation Administration

Agency Information Collection Activities Under OMB Review

AGENCY: Federal Aviation Administration (FAA), DOT.

ACTION: Notice.

SUMMARY: In compliance with the Paperwork Reduction Act of 1995 (44 U.S.C. 3501 et seq.), this notice announces that the Information Collection Requests (ICR) abstracted below have been forwarded to the Office of Management and Budget (OMB) for extension of currently approved collections. The ICR describes the nature of the information collection and its expected burden. The Federal Register Notice with a 60-day comment period soliciting comments on the following collections of information was published on October 7, 1999, [FR 64, pages 54720-54721].

DATES: Comments must be submitted on or before April 5, 2000. A comment to OMB is most effective if OMB receives it within 30 days of publication.

FOR FURTHER INFORMATION CONTACT: Judy Street on (202) 267-9895.

SUPPLEMENTARY INFORMATION:

1. Title: Certification of Repair Stations—FAR Part 145.

Type of Request: Extension of currently approved collection.

Control Number: 2120-0010.

Form(s): FAA Form 8310-3.

Affected Public: An estimated 1100 applicants who wish repair station certification.

Abstract: Information is collected from applicants who wish repair station certification. Applicants submit FAA Form 8310-3 to the appropriate FAA district office for review. If the application is satisfactory, an onsite inspection is conducted. When all the requirements have been met, an air agency certificate and repair station operations specifications with appropriate ratings and limitations are issued.

Estimated Annual Burden Hours: 304,647 burden hours annually.

2. Title: Operating Requirements: Commuter and On-Demand Operation.

Type of Request: Extension of a currently approved collection.

OMB Control Number: 2120-0039.

Form(s): FAA Form 8070-1.

Affected Public: An estimated 2765 air carrier and commercial operators.

Abstract: Each operator who seeks to obtain, or is in possession of, an air carrier or FAA operating certificate must comply with the requirements of 14 CFR Part 135 in order to maintain data which is used to determine if the carrier is operating in accordance with minimum safety standards.

Estimated Annual Burden Hours: 1,128,904 burden hours annually.

3. Title: Recording of Aircraft Conveyance and Security Documents.

Type of Request: Extension of a currently approved collection.

OMB Control Number: 2120-0043.

Form(s): AC Form 8050-41.

Affected Public: 55,406 respondents.

Abstract: Approval is needed for security conveyances, such as mortgages, submitted by the public for recording against aircraft, engines, propellers, and spare parts locations.

Estimated Annual Burden Hours: 55,406 burden hours annually.

4. Title: Fleet and Operations Reporting: Grand Canyon National Park.

Type of Request: Extension of a currently approved collection.

OMB Control Number: 2120-0606.

Form(s): N/A.

Affected Public: 24 operators.

Abstract: Each operator conducting air tours in the Grand Canyon National Park must comply with the collection requirements for that airspace. The FAA will use the information it collects and reviews to monitor compliance with the regulations and, if necessary, take enforcement action against violators of the regulations.

Estimated Annual Burden Hours: 48 burden hours annually.

Addresses: Send comments to the Office of Information and Regulatory Affairs, Office of Management and Budget, 725 17th Street, NW., Washington, DC 20503, Attention: FAA Desk Officer.

Comments Are Invited On: Whether the proposed collections of information are necessary for the proper performance of the functions of the Department, including whether the information will have practical utility; the accuracy of the Department's estimate of the burden of the proposed information collections; ways to enhance the quality, utility and clarity of the information to be collected; and ways to minimize the burden of the collections of information on respondents, including the use of automated collection techniques or other forms of information technology.

Issued in Washington, DC, on March 2, 2000.
Steve Hopkins,
Manager, Standards and Information Division, APF-100.

[FR Doc. 00-5491 Filed 3-6-00; 8:45 am]

BILLING CODE 4910-13-M